FEDERAL TRADE COMMISSION

[File No. 111 0097]

Healthcare Technology Holdings, Inc.; Analysis of Proposed Agreement Containing Consent Orders To Aid Public Comment

Correction

In notice document 2011-28497 appearing on pages 68189-68191 in the issue of Thursday, November 3, 2011, make the following corrections:

1. On page 68189, in the second column, in the third through fifth lines, the Web site link should read “https://ftcpublic.commentworks.com/ftc/imssdihealthconsent”.

2. On the same page, in the third column, in the second full paragraph, seventh through ninth lines, the Web site link should read “https://ftcpublic.commentworks.com/ftc/imssdihealthconsent”.

[FR Doc. C1-2011-28497 Filed 11-14-11; 8:45 am]

BILLING CODE 1505-01-D